DEPARTMENT OF HOMELAND SECURITY

Coast Guard

33 CFR Part 165

[Docket Number USCG-2024-0868]

RIN 1625-AA87

Security Zone; Monongahela River Mile Markers 0-43.5, Allegheny River Mile Markers 0-14.5, and Ohio River Mile Markers 0-28.5 and 89-93, Pittsburgh, PA

AGENCY: Coast Guard, DHS.

ACTION: Temporary final rule.

SUMMARY: The Coast Guard is establishing four security zones for certain navigable waters on the Allegheny, Monongahela, and Ohio Rivers to prevent waterside threats for persons under the protection of the United States Secret Service (USSS). These security zones will be enforced intermittently and when persons under USSS protection are in the area. This rule prohibits vessels and people from entering or remaining in the zones unless specifically exempt under the provisions of this rule or granted specific permission from the Captain of the Port Pittsburgh. The regulation will enhance the safety and security of persons and property, while minimizing, to the extent possible, the impact on commerce and legitimate waterway use.

DATES: This rule is effective without actual notice from September 27, 2024 through November 30, 2024. For the purpose of enforcement, actual notice will be used from September 23, 2024, until September 27, 2024. This rule will be enforced when persons under USSS protection are in the vicinity of one of the security zone areas.

ADDRESSES: To view documents mentioned in this preamble as being available in the docket, go to https://www.regulations.gov, type USCG-2024-0868 in the search box and click “Search.” Next, in the Document Type column, select “Supporting & Related Material.”

FOR FURTHER INFORMATION CONTACT: If you have questions on this rule, call or email Marine Science Technician First Class Brett Lanzel, Marine Safety Unit Pittsburgh, U.S. Coast Guard; telephone 206-815-6624, email brett.j.lanzel@uscg.mil.

SUPPLEMENTARY INFORMATION:

I. Table of Abbreviations

CFR Code of Federal Regulations

COTP Captain of the Port Pittsburgh

DHS Department of Homeland Security

FR Federal Register

NPRM Notice of proposed rulemaking

§ Section

U.S.C. United States Code

II. Background Information and Regulatory History

On seven separate occasions since February 2024, the COTP has established temporary security zones encompassing certain U.S. navigable waters on the Allegheny, Monongahela and Ohio River. These security zones were established and enforced at the request of the U.S. Secret Service (USSS) to support security measures required during visits by high-ranking United States government officials.

There is a high likelihood that between September 23, 2024, and November 30, 2024, there will be several visits to the Pittsburgh, PA area by persons under USSS protection. Most of these visits will occur with less than two weeks' notice. Therefore, the Coast Guard is establishing these security zones to notify the public that when these visits occur, the Coast Guard may enforce one or more security zones to ensure the safety of the protected persons, vessels, bridges, and the public while the protected persons transit bridges or are at waterfront facilities. The security zones will be enforced only when protected persons are in the area. The Coast Guard will provide local notice for each instance the security zones will be enforced.

The Coast Guard is issuing this temporary rule under the authority in 5 U.S.C. 553(b)(B). This statutory provision authorizes an agency to issue a rule without prior notice and opportunity to comment when the agency for good cause finds that those procedures are “impracticable, unnecessary, or contrary to the public interest.” Under 5 U.S.C. 553(b)(B), the Coast Guard finds that good cause exists for not publishing a notice of proposed rulemaking (NPRM) with respect to this rule because it is impracticable and contrary to the public interest to delay the effective date of this rule due to the short time period between event planners notifying the Coast Guard and the effective date needed for the security zones.

It is impracticable because this security zone must be established by September 23, 2024, to provide for the security of life on the navigable waters during anticipated dignitary visits, and we lack sufficient time to provide a reasonable comment period and then consider those comments before issuing this rule. And publishing an NPRM is contrary to the public interest because waiting for the NPRM process would delay the establishment of the security zone until after the date of anticipated dignitary visits.

Additionally, under 5 U.S.C. 553(d)(3), the Coast Guard finds that good cause exists for making this rule effective less than 30 days after publication in the Federal Register. As previously mentioned above, delaying the effective date of this rule would be impracticable and contrary to the public interest because action is needed by September 23, 2024, to ensure the security of the of life on the navigable waters during a dignitary visit.

III. Legal Authority and Need for Rule

The Coast Guard is issuing this rule under authority in 46 U.S.C. 70051 and 70124. The Captain of the Port Pittsburgh (COTP) has determined that four security zone are needed to protect various visiting dignitaries, persons, and property during multiple anticipated visits between September 23, 2024, until November 30, 2024. This rule is necessary to provide waterside security and protection when persons under USSS protection are in these areas. These security zones will protect both the persons under USSS protection, vessels and certain shoreside facilities, and the public from potential hazards and threats.

IV. Discussion of the Rule

This rule establishes four security zones that will be enforced at one (1) mile segments for up to six (6) hours each during various dignitary bridge crossings or waterside events from September 23, 2024, through November 30, 2024. The Coast Guard will provide local notice for each instance of enforcement. This rule is necessary to expedite the establishment and enforcement of these security zones when short notice is provided to the COTP for USSS protectees who may be present in the area.

Security Zone One will cover all navigable waters on the Monongahela River Mile Markers 0-43.5. Security Zone Two will cover all navigable waters on the Allegheny River Mile Markers 0-14.5. Security Zone Three will cover all navigable waters on the Ohio River Mile Markers 0-28.5. Security Zone Four will cover all navigable waters on the Ohio River Mile Marker 89-93. The duration of each instance of enforcement of the security zone is intended to protect a visiting dignitary and the other persons and property in the zone. These security zones may be activated individually or simultaneously with respect to the presence of USSS protectees.

No vessel or person is permitted to enter or remain in the security zone without obtaining permission from the COTP or a designated representative of the COTP. A designated representative is a commissioned, warrant, or petty officer of the U.S. Coast Guard (USCG) assigned to units under the operational control of the COTP. To seek permission to enter, contact the COTP or a designated representative via VHF-FM channel 16, or through Marine Safety Unit Pittsburgh at 206-815-6624. Persons and vessels permitted to enter the security zone must comply with all lawful orders or directions issued by the COTP or designated representative. The COTP or a designated representative will inform the public of the effective period for the security zone as well as any changes in the dates and times of enforcement through Local Notice to Mariners (LNMs), Broadcast Notices to Mariners (BNMs), and/or Marine Safety Information Bulletins (MSIBs), as appropriate.

V. Regulatory Analyses

We developed this rule after considering numerous statutes and Executive orders related to rulemaking. Below we summarize our analyses based on a number of these statutes and Executive orders, and we discuss First Amendment rights of protestors.

A. Regulatory Planning and Review

Executive Orders 12866 and 13563 direct agencies to assess the costs and benefits of available regulatory alternatives and, if regulation is necessary, to select regulatory approaches that maximize net benefits. This rule has not been designated a “significant regulatory action,” under Executive Order 12866, as amended by Executive Order 14094 (Modernizing Regulatory Review). Accordingly, this rule has not been reviewed by the Office of Management and Budget (OMB).

This regulatory action determination is based on size, location, and duration of the temporary security zones. These security zones will impact one (1) mile stretches for up to six (6) hours at a time on the Monongahela River, Allegheny River and the Ohio River starting September 23, 2024, and ending November 30, 2024. Moreover, the Coast Guard will issue a Broadcast Notice to Mariners via VHF-FM marine channel 16 about the enforcement of these zones and this rule allows vessels to seek permission from the COTP to transit the zone.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this rule will not have a significant economic impact on a substantial number of small entities.

While some owners or operators of vessels intending to transit the security zone may be small entities, for the reasons stated in section V.A above, this rule will not have a significant economic impact on any vessel owner or operator.

Under section 213(a) of the Small Business Regulatory Enforcement Fairness Act of 1996 (Pub. L. 104-121), we want to assist small entities in understanding this rule. If the rule would affect your small business, organization, or governmental jurisdiction and you have questions concerning its provisions or options for compliance, please call or email the person listed in the FOR FURTHER INFORMATION CONTACT section.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

C. Collection of Information

This rule will not call for a new collection of information under the Paperwork Reduction Act of 1995 (44 U.S.C. 3501-3520).

D. Federalism and Indian Tribal Governments

A rule has implications for federalism under Executive Order 13132, Federalism, if it has a substantial direct effect on the States, on the relationship between the National Government and the States, or on the distribution of power and responsibilities among the various levels of government. We have analyzed this rule under that Order and have determined that it is consistent with the fundamental federalism principles and preemption requirements described in Executive Order 13132.

Also, this rule does not have tribal implications under Executive Order 13175, Consultation and Coordination with Indian Tribal Governments, because it does not have a substantial direct effect on one or more Indian tribes, on the relationship between the Federal Government and Indian tribes, or on the distribution of power and responsibilities between the Federal Government and Indian tribes.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

F. Environment

We have analyzed this rule under Department of Homeland Security Directive 023-01, Rev. 1, associated implementing instructions, and Environmental Planning COMDTINST 5090.1 (series), which guide the Coast Guard in complying with the National Environmental Policy Act of 1969 (42 U.S.C. 4321-4370f), and have determined that this action is one of a category of actions that do not individually or cumulatively have a significant effect on the human environment. This rule involves four security zones to be enforced in one (1) mile segments for up to six (6) hours on each instance of enforcement, from September 23, 2024, through November 30, 2024, on the Monongahela River, Allegheny River, or Ohio River, during an important dignitary visit. It is categorically excluded from further review under paragraph L60(a) of Appendix A, Table 1 of DHS Instruction Manual 023-01-001-01, Rev. 1. A Record of Environmental Consideration supporting this determination is available in the docket. For instructions on locating the docket, see the ADDRESSES section of this preamble.

G. Protest Activities

The Coast Guard respects the First Amendment rights of protesters. Protesters are asked to call or email the person listed in the FOR FURTHER INFORMATION CONTACT section to coordinate protest activities so that your message can be received without jeopardizing the security or security of people, places, or vessels.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 46 U.S.C. 70034, 70051, 70124; 33 CFR 1.05-1, 6.04-1, 6.04-6, and 160.5; Department of Homeland Security Delegation No. 00170.1, Revision No. 01.3.

2. Add § 165.T08-0868 to read as follows:

§ 165.T08-0868 Security Zone; Monongahela River, Allegheny River, and Ohio River, Pittsburgh, PA.

(a) Location. The following areas are security zones:

(1) Security Zone One will cover all navigable waters on the Monongahela River Mile Markers 0-43.5.

(2) Security Zone Two will cover all navigable waters on the Allegheny River Mile Markers 0-14.5.

(3) Security Zone Three will cover all navigable waters on the Ohio River Mile Markers 0-28.5.

(4) Security Zone Four will cover all navigable waters on the Ohio River Mile Marker 89-93.

(b) Definitions. As used in this section, designated representative means a Coast Guard commissioned, warrant, or petty officer who has been authorized by the COTP to enforce this security zone described in paragraph (a) of this section.

(c) Regulations. (1) Under the general security zone regulations in subpart D of this part, you may not enter or remain in the security zones described in paragraph (a) of this section unless authorized by the COTP or the COTP's designated representative.

(2) To seek permission to enter, contact the COTP or the COTP's representative on Channel 16. The COTP's representative may be contacted at 206-815-6624. Those in the security zone must comply with all lawful orders or directions given to them by the COTP or the COTP's designated representative.

(3) The U.S. Coast Guard may secure the entirety of all or each security zones if deemed necessary to address security threats or concerns.

(d) Enforcement period. (1) The Coast Guard activates the security zones when requested by the U.S. Secret Service for the protection of individuals who qualify for their protection. The COTP will provide the public with notice of enforcement of security zone by Broadcast Notice to Mariners (BNM). This section will be enforced in one (1) mile segments for up to six (6) hours in each instance of enforcement from September 23, 2024, through November 30, 2024. The Coast Guard will provide local notice of each instance of enforcement of the temporary security zone.

(2) These security zones may be enforced individually or simultaneously.

Dated: September 23, 2024
Justin R. Jolley,
Commander, U.S. Coast Guard, Captain of the Port, MSU Pittsburgh.

[FR Doc. 2024-22106 Filed 9-26-24; 8:45 am]

BILLING CODE 9110-04-P